DEPARTMENT OF JUSTICE

Notice of Lodging of Consent Decree Under the Comprehensive Environmental Response, Compensation and Liability Act

Notice is hereby given that on October 21, 2009, a proposed Consent Decree in United States v. Louisiana Midland Transport Company, L.L.C. (“Louisiana Midland”), C.A. No. 1:09-cv-01825 (W.D. La.), was lodged with the United States District Court for the Western District of Louisiana. The Consent Decree resolves the United States' claim for response costs against Louisiana Midland, pursuant to Section 107(a)(2) of the Comprehensive Environmental Response, Compensation, and Liability Act (“CERCLA”), 42 U.S.C. 9607(a)(2). The claim relates to response costs incurred by the U.S. Environmental Protection Agency (“EPA”) in connection with clean-up activities performed at the Doughty's Treating Plant Site, located in Jena, La Salle Parish, Louisiana. Under the Consent Decree, defendant Louisiana Midland will pay EPA $1,200,000 in reimbursement of a portion of the response costs incurred by EPA in connection with the Site.

The Department of Justice will receive for a period of thirty (30) days from the date of this publication comments relating to the Consent Decree. Comments should be addressed to the Acting Assistant Attorney General, Environment and Natural Resources Division, and either e-mailed to pubcomment-ees.enrd@usdoj.gov, or mailed to P.O. Box 7611, U.S. Department of Justice, Washington, DC 20044-7611, and should refer to United States v. Louisiana Midland Transport Company, L.L.C., DOJ Reference No. 90-11-3-09181.

The Consent Decree may be examined at the Office of the United States Attorney, 300 Fannin Street, Suite 3201, Shreveport, Louisiana, and at U.S. EPA Region 6, 1445 Ross Avenue, Suite 1200, Dallas, Texas 75202. During the public comment period, the Consent Decree may also be examined on the following Department of Justice Web site: http://www.usdoj.gov/enrd/Consent_ Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Consent Decree from the Consent Decree Library, please enclose a check in the amount of $5.50 (25 cents per page production costs), payable to the U.S. Treasury or, if by e-mail or fax, forward a check in that amount to the Consent Decree Library at the stated address.

Maureen Katz,
Assistant Chief, Environmental Enforcement Section, Environment and Natural Resources Division.

[FR Doc. E9-25957 Filed 10-28-09; 8:45 am]

BILLING CODE 4410-15-P